TRADE AND DEVELOPMENT AGENCY

Notice of Request for Extension of a Currently Approved Information Collection

AGENCY: United States Trade and Development Agency.

ACTION: Request for comments.

SUMMARY: In accordance with the Paperwork Reduction Act of 1995 (44 U.S.C. Chapter 35), this notice announces the U.S. Trade and Development Agency's intention to request an extension for a currently approved information collection for Evaluation of USTDA Performance. USTDA invites general public and other Federal agencies to take this opportunity to comment on the following proposed information collection. Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Carolyn Hum, Administrative Officer. All comments received will be available for public inspection during regular business hours at the same address.

DATES: Comments on this notice must be received by September 6, 2011 to be assured of consideration.

FOR ADDITIONAL INFORMATION CONTACT: Contact Carolyn Hum, Administrative Officer, Attn: PRA, U.S. Trade and Development Agency, 1000 Wilson Blvd., Suite 1600, Arlington, VA 22209-3901; Tel.: (703) 875-4357, Fax: (703) 875-4009; E-mail: PRA@ustda.gov.

SUPPLEMENTARY INFORMATION:

Summary Collection Under Review

Type of Request: Extension of a currently approved information collection.

Expiration Date of Previous Approval: 12/31/2011.

Title: Evaluation of USTDA Performance.

Form Number: USTDA 1000E-2011a.

Frequency of Use: annually for duration of project.

Type of Respondents: Business or other for profit; Not-for-profit institutions; Farms; Federal Government.

Estimated Number of Responses: 3,000 per year.

Estimated Total Annual Burden on Respondents: 1,000 hours per year.

Federal Cost: $416,289

Authority for Information Collection: Government Performance and Results Act of 1993 103 Public Law 62; 107 Stat. 285.

Abstract: USTDA and contractors will collect information from various stakeholders on USTDA-funded activities regarding development impact and/or commercial objectives as well as evaluate success regarding GPRA and OMB PART objectives.

All responses to this notice will be summarized and included in the request for OMB approval. All comments will become a matter of public record.

Dated: June 27, 2011.
Carolyn Hum,
Administrative Officer.

[FR Doc. 2011-16989 Filed 7-6-11; 8:45 am]

BILLING CODE 8040-01-P